DEPARTMENT OF HEALTH AND HUMAN SERVICES

Health Resources and Services Administration

Announcement of Requirements and Registration for “Stop Bullying Video Challenge”

AGENCY: Health Resources and Services Administration (HRSA), HHS.

ACTION: Notice.

SUMMARY: The Health Resources and Services Administration's (HRSA) Maternal and Child Health Bureau, located within the Department of Health and Human Services (HHS), announces the launch of the “Stop Bullying Video Challenge.” Bullying is unwanted, aggressive behavior among school aged children that involves a real or perceived power imbalance. The behavior is repeated, or has the potential to be repeated, over time. Bullying can affect everyone—those who are bullied, those who bully, and those who witness bullying. Bullying is linked to many negative outcomes including impacts on mental health, substance use, and suicide. The Federal Partners for Bullying Prevention is a Federal workgroup which is comprised of 9 departments, with 34 offices within those 9 departments, dedicated to preventing and ending bullying in schools and communities across the nation. HRSA and the Federal Partners are launching a video challenge that will encourage and motivate youth to prevent bullying.

The goal of the contest is to create an impact through accepting videos that demonstrate:

1. Peer-to-peer communication,

2. Positive messaging, and

3. Promotion of the www.stopbullying.gov Web site. By using these guidelines, contestants will create relevant, youth-designed videos that stand to increase knowledge about bullying and how to prevent it.

DATES: Contestants can begin submission of tools on August 7, 2012, until the end of the submission period October 10, 2012. Judging will take place between October 11 and December 2, 2012. Winners will be notified and prizes awarded no later than December 31, 2012.

FOR FURTHER INFORMATION CONTACT: Erin Reiney, MPH, CHES; Public Health Analyst, 301-443-5848.

AWARD APPROVING OFFICIAL: Mary K. Wakefield, Ph.D., R.N., Administrator, Health Resources and Services Administration.

SUPPLEMENTARY INFORMATION:

Eligible Entities

This video contest is open to U.S. middle and high school students aged 13-18 at the time of entry. Contestants may be individuals or groups (including but not limited to middle and high schools located in the U.S., and youth advocacy groups incorporated in and located in the U.S.). An individual, whether participating singly or in a group, must be a citizen or permanent resident of the U.S. If the contestant is under 18 years of age at the time of entry, the contestant must have permission from a parent or guardian, and an adult must complete and submit the contest entry form. Contestants/submitters must also have all the necessary permissions for individuals heard and/or seen on the submitted video. The permission of the parent or guardian of each person under the age of 18 who is seen or heard in the video is also required. Contestants in this category are encouraged to submit group entries. Employees and contractors of the Federal government are not eligible, nor are their immediate family members. The Contest is subject to all applicable Federal laws and regulations. Participation constitutes contestant's full and unconditional agreement to these Official Rules, which are final and binding in all matters related to the Contest. Eligibility for a prize award is contingent upon fulfilling all requirements set forth herein.

Competition Submission Period and other Submission Requirements

Contestants must submit their videos between August 7 and October 10, 2012. Each contestant must complete and submit the required information on www.challenge.gov for the video entered into the Contest. Groups of more than one individual must submit a contest entry through a single designated individual or school within the group. Once a submission is made, the contestant may not make any changes or alter the submission until the judging is complete and winners announced. Contestants remain owners of the intellectual property rights of their submissions. Contestants must upload their video to YouTube as private. To do this, select “Privacy Settings,” mark video as private, enter the YouTube username “stopbullyinggov” in the box that appears below, then select “save changes.” Videos must be uploaded to YouTube in one of the following file formats: WebM, MPEG4, 3GPP, MOV, AVI, MPEGPS, WMV, or FLV.

Contest Guidelines

(1) All tools must be submitted through the Stop Bullying Video Challenge Contest page located at http://stopbullying.challenge.gov.

(2) Individual contestants must be a U.S. citizen or legal resident to enter and win. U.S. Government employees, contractors, or grantees and their immediate family members are not eligible to win.

(3) Individuals creating the video must be 13-18 years of age.

(4) Videos must be submitted by an adult, age 18 or older, with one youth lead indicated on the submission form. In cases where the contestant/submitter is an 18-year-old submitting on their own behalf, that individual can also be designated as the youth lead.

(5) An adult must complete the contest entry form and provide valid contact information.

(6) The permission of the parent or guardian of each person under the age of 18 who is seen or heard in the video is also required.

(7) Entries will be judged by an expert panel on the basis of creativity and originality, quality, technical accuracy, and content of the message. HRSA reserves the right not to select a winner if none of the entries received are judged to be of high quality based on the above criteria.

(8) The video must be an original creation by an individual or group of individuals between the ages of 13 and 18. No copyrighted music, video, or images may be used in the video.

(9) The submitted video must not infringe on any third party rights.

(10) Videos previously produced for compensation and videos already posted on www.stopbullying.gov are not eligible.

(11) The winner(s) must provide a copy of the original video file to receive the prize funds.

(12) By submitting a video to this contest, contestants grant a royalty-free license to copy, distribute, modify, display and perform publicly and otherwise use, and authorize others to use, your video for any educational purpose throughout the world and in any media.

(13) HRSA reserves the right to make your video available to the general public from its Web site and to distribute it to groups and any other organizations interested in showing it for educational purposes, including, but not limited to, on internet sites, at conferences and events, on television, and other media outlets.

(14) HRSA will disqualify any entries deemed to contain offensive material.

(15) You must have a consent form filled out and signed by each person appearing or heard in the video, and his/her guardian if s/he is a minor. If your video is chosen, you must provide copies of these signed consent forms.

(16) Entries must be received or postmarked by October 10, 2012. The winner will be notified via email and announced on the contest Web site in December.

(17) Each entrant must agree to these terms and conditions, or, if a minor, his/her parent or legal guardian.

Formatting Requirements

(1) The video must be 30 seconds to 60 seconds in length, and close with a visual mention of www.stopbullying.gov;

(2) You may enter multiple versions (30 seconds to 60 seconds) of your Public Service Announcement (PSA);

(3) The video cannot have been submitted previously in a promotion or contest of any kind or exhibited or displayed publicly through any means previously;

(4) The video must not contain material that violates or infringes another's rights, including but not limited to privacy, publicity or intellectual property rights, or that constitutes copyright or license infringement;

(5) The video must not contain brand names or trademarks;

(6) The video must not contain material that is inappropriate, indecent, obscene, hateful, defamatory, slanderous or libelous;

(7) The video must not contain material that promotes bigotry, racism, hatred or harm against any group or individual or promotes discrimination based on race, sex, religion, nationality, disability, sexual orientation, gender identification or age; and

(8) The video must not contain material that is unlawful, in violation of, or contrary to the laws or regulations in any state where the video is created.

Winner Selection and Judges

Following the deadline for submissions, a panel will judge the videos for accuracy of the information and its compliance with the video requirements shown above. A panel of expert judges will then choose the top three videos submitted. The top three videos will be posted on www.stopbullying.gov and recognized as the winners of this PSA contest. The grand prize winner will be selected from the top three videos by a public majority vote via challenge.gov. All three winners will receive a prize. There will be one grand prize award of $2,000 and two runners-up awards of $500 given to winning contestants. An expert panel of judges, qualified by training and experience, will evaluate the submissions on the criteria identified below. Judges will be fair and impartial, may not have a personal or financial interest in, or be an employee, officer, director, or agent of, any entity that is a registered participant in the competition, and may not have a familial or financial relationship with an individual who is a registered contestant. The panel will provide expert advice on the merits of each submission to HRSA officials responsible for final selections for award.

Judging Criteria

Message and Appropriateness to Theme (50%)

• The message is effective at promoting greater public awareness about bullying issues and conveys clear and concise steps that can be taken to motivate youth to prevent bullying.

• Involves kids talking to kids. While working with adults to communicate the message is encouraged, the PSA should feature youth addressing their peers on the issue of bullying.

• Communicates a positive message. The focus should be on how youth can be more than a bystander, rather than a PSA that solely explains why bullying is wrong. HRSA encourages creating a video that promotes an environment where kindness and respect for others matters.

• The anti-bullying message is supported by information found on www.stopbullying.gov, and includes the Web site URL for 3 seconds at the end of the video.

Creativity & Originality (30%)

• Video concept and approach is unique.

• Entrant employs innovative methods to convey the message.

• Audio and visual enhance, rather than distract from, the underlining message.

Audience Appeal/Quality (20%)

• Audio quality—any dialogue that can be easily understood; music and/or sound effects are of adequate fidelity.

• Visual quality—video production appears professional; any visual effects contribute rather than distract from message.

Winners and Recognition

Winners will be identified and notified prior to the date of public announcement and promotion of winners. All winning tools will be featured on www.stopbullying.gov and www.challenge.gov, and via social media channels, including, but not limited to, Facebook, Twitter, and YouTube pages. There will be up to 3 winners.

Intellectual Property Rights

All videos submitted to the Stop Bullying Video Challenge remain the intellectual property of the individuals who developed them. However, the Federal Government maintains a non-exclusive, royalty-free license to use, reproduce, publish, distribute and exhibit the submission/winning video in any and all formats or manner for educational, training and other information purpose consistent with the Federal Partners for Bullying Prevention's mission. Submissions will be made available free of charge to the public. The Federal Government also reserves the right to make all submitted videos available for partners and local access stations to feature winners or local contestants.

Publicity

Except where prohibited, participation in the Contest constitutes the winner's consent to use of the winner's name, likeness, photograph, voice, opinions, and/or hometown and state information by the Contest's sponsors and/or agents for promotional purposes in any media, worldwide, without further payment or consideration.

Copyright

The contestant warrants that the identified individual(s) involved are the sole author(s) and owner(s) of the Contest submission, that the Contest submission completely originates with the identified participants, that it does not infringe upon any copyright or any other rights of any third party of which the contestant(s) is aware, and that it is free of malware. The contestant cannot submit material that participating individuals between the ages of 13 and 18 did not create and do not own. The contestant cannot take material from any other source.

Liability

The contestant/submitter agrees to assume any and all risks and waive claims against the Federal Government and its related entities, except in the case of willful misconduct, for any injury, death, damage, or loss of property (including any damage that may result from a virus, malware, etc., to Government systems utilized to play the video), revenue, or profits, whether direct, indirect, or consequential, arising from their participation in the competition, whether the injury, death, damage, or loss arises through negligence or otherwise. The contestant/submitter shall be liable for, and shall indemnify and hold harmless the Government against, all actions or claims for any claim, demand, judgment, or other allegation arising from alleged violation of an individual's trademark, copyright, or other legally protected interest in videos submitted to the Federal Government.

Privacy Policy

Personal information collected for this contest will only be used to contact video submitters about the contest. The contest winners' names (and the names of any honorable mentions selected) will be announced publically, after consultation with the winner and any honorable mentions, as a part of the Stop Bullying Video Challenge award recognition process. All information collected is subject to the ChallengePost privacy policy located at www.challengepost.com/privacy.

General Conditions

HRSA reserves the right to cancel, suspend, and/or modify the Contest, or any part of it, for any reason, at HRSA's sole discretion. Participation in this Contest constitutes a contestant's full and unconditional agreement to abide by the Contest's Official Rules found at http://stopbullying.challenge.gov.

Authority: 15 U.S.C. 3719.

Dated: August 1, 2012.
Mary K. Wakefield,
Administrator.

[FR Doc. 2012-19225 Filed 8-6-12; 8:45 am]

BILLING CODE 4165-15-P